DEPARTMENT OF HEALTH AND HUMAN SERVICES

Centers for Disease Control and Prevention

Notice of Award of a Single-Source Cooperative Agreement To Fund Zambia National Public Health Institute (ZNPHI)

AGENCY: Centers for Disease Control and Prevention (CDC), Department of Health and Human Services (HHS).

ACTION: Notice.

SUMMARY: The Centers for Disease Control and Prevention (CDC), located within the Department of Health and Human Services (HHS), announces the award of approximately $10,000,000 with an expected total funding of approximately $50,000,000 over a 5-year period, to Zambia National Public Health Institute. The award will strengthen ZNPHIs' public health capacity and to support ZNPHI to work with countries to build strong National Public Health Institutes in the region. The CDC seeks to strengthen NPHIs that are credible, technically expert, and prioritize the protection of the public's health.

DATES: The period for this award will be September 30, 2022, through September 29, 2027.

FOR FURTHER INFORMATION CONTACT: Shana Eatman, Centers for Disease Control and Prevention, 1825 Century Center, MS V18-3, Atlanta, GA 30345, Telephone: 770-488-3933, E-Mail: DGHPNOFOs@cdc.gov.

SUPPLEMENTARY INFORMATION: The single-source award will allow ZNPHI to implement effective surveillance, laboratory, response, and capacity building functions to enhance the well-being of people in Zambia. ZNPHI will efficiently manage its responsibilities through transparent and data-driven decision making, robust organizational capacities, and effective internal/external stakeholder communication. ZNPHI will also work with other government of Zambia entities to implement public health strengthening activities. Likewise, ZNPHI will work with other National Public Health Institutes or Ministries of Health in the region to develop or strengthen their public health capacities and functions.

Zambia National Public Health Institute is in a unique position to conduct this work. ZNPHI was established in 2015 and operated under MOH authorities for several years. During this time, they have been funded by the Zambian government and other partners. The ZNPHI Act was passed in 2020, which officially established ZNPHI as an independent agency and the main institution responsible for public health and the national focal point for implementation of the International Health Regulations. ZNPHI's mandate also includes responsibility for the health security for the nation through the establishment and functioning of the public health emergency operations center; national public health laboratory; surveillance; workforce development and through the coordination of public and global health security.

Summary of the Award

Recipient: Zambia National Public Health Institute (ZNPHI).

Purpose of the Award: The purpose of this award is to strengthen ZNPHIs' public health capacity and to support ZNPHI to work with countries to build strong National Public Health Institutes in the region. The CDC seeks to strengthen NPHIs that are credible, technically expert, and prioritize the protection of the public's health.

Amount of Award: $10,000,000 in Federal Fiscal Year (FFY) 2022 funds, with a total estimated $50,000,000 for the 5-year period of performance, subject to availability of funds. Please note, this NOFO funding strategy is as follows: $2,000,000 for Core Component 1, and $8,000,000 in Approved but Unfunded (ABU) Components.

Authority: This program is authorized under Section 307 of the Public Health Service Act [42 U.S.C. 242I] and Section 301(a) [42 U.S.C. 241(a)] of the Public Health Service Act.

Period of Performance: September 30, 2022, through September 29, 2027.

Dated: June 9, 2022.
Terrance Perry,
Chief Grants Management Officer, Centers for Disease Control and Prevention.

[FR Doc. 2022-12837 Filed 6-14-22; 8:45 am]

BILLING CODE 4163-18-P